DEPARTMENT OF ENERGY

Federal Energy Regulatory Commission

[Docket No. CP00-434-000]

Columbia Gulf Transmission Company; Notice of Intent To Prepare an Environmental Assessment for the Proposed Stanton Compressor Replacement and Request for Comments on Environmental Issues

October 3, 2000.

The staff of the Federal Energy Regulatory Commission (FERC or Commission) will prepare an environmental assessment (EA) that will discuss the environmental impacts of the Stanton Compressor Replacement Project, involving replacement, construction and operation of facilities by Columbia Gulf Transmission Company (Columbia Gulf) in Stanton County, Kentucky.¹ These facilities would consist of replacing an existing gas-powered turbine and compressor package with a new compressor package, constructing two small buildings to house the new compressor package and related control equipment, and constructing associated yard piping to tie-in the new compressor to the existing compressor station. This EA will be used by the Commission in its decision-making process to determine whether the project is in the public convenience and necessity.

¹ Columbia Gulf's application was filed with the Commission under Section 7 of the Natural Gas Act and Part 157 of the Commission's regulations.

Summary of the Proposed Project

Columbia Gulf wants to replace an aging compressor package at its existing Stanton Compressor Station. Columbia Gulf seeks authority for the following activities:

• Abandon by removal one 12,050-horsepower (hp) gas-powered turbine compressor and driver, the related compressor and control buildings, and associated piping and valves;

• Construct and operate a new 14,470-hp gas turbine compressor package within a new prefabricated building;

• Construct a second prefabricated building to house compressor control and communication equipment; and

• Construct and operate about 2,300 feet of new 30-inch-diameter pipeline to tie-in the replacement compressor facilities with the existing station piping.

All of the proposed activities would be conducted within Columbia Gulf's existing Stanton Compressor Station yard. The location of the project facilities is shown in appendix 1.² The replacement would not change the design day or certificated capacity of the compressor station.

² The appendices referenced in this notice are not being printed in the Federal Register. Copies are available on the Commission's website at the “RIMS” link or from the Commission's Public Reference and Files Maintenance Branch, 888 First Street, N.E., Washington, D.C. 20426, or call (202) 208-1371. For instructions on connecting to RIMS refer to the last page of this notice. Copies of the appendices were sent to all those receiving this notice in the mail.

Land Requirements for Construction

Abandonment of the existing compressor package and construction of the proposed facilities would disturb about 0.7 acre of land. Following abandonment and construction activities, all disturbed areas would be stabilized and revegetated.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “Us,” “we,” and “our” refer to the environmental staff of the FERC's Office of Energy Projects.

The EA will discuss impacts that could occur as a result of the abandonment, construction and operation of the proposed project under these general headings:

• Geology and soils

• Water resources, fisheries, and wetlands

• Vegetation and wildlife

• Air quality and noise

• Land use

• Endangered and threatened species

• Cultural resources

• Public safety

We will also evaluate possible alternatives to the proposed project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send two copies of your letter to: David P. Boergers, Secretary, Federal Energy Regulatory Commission, 888 First Street, NE., Room 1A, Washington, DC 20426.

• Label one copy of the comments for the attention of Gas Group 1, PJ-11.1.

• Reference Docket No. CP00-434-000.

• Mail your comments so that they will be received in Washington, DC on or before November 3, 2000.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rule of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menus, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-25863 Filed 10-6-00; 8:45 am]

BILLING CODE 6717-01-M